DEPARTMENT OF HEALTH AND HUMAN SERVICES

Centers for Disease Control and Prevention

National Center for Health Statistics (NCHS), Classifications and Public Health Data Standards Staff, Announces the Following Meeting

Name: ICD-10 Coordination and Maintenance (C&M) Committee meeting.

Time and Date: 9:00 a.m.-5:00 p.m., EST, March 9-10, 2016.

Place: Centers for Medicare and Medicaid Services (CMS) Auditorium, 7500 Security Boulevard, Baltimore, Maryland 21244.

Status: Open to the public, limited only by the space available. The meeting room accommodates approximately 240 people. We will be broadcasting the meeting live via Webcast at http://www.cms.gov/live/.

Security Considerations: Due to in creased security requirements CMS has instituted stringent procedures for entrance into the building by non-government employees. Attendees will need to present valid government-issued picture identification, and sign-in at the security desk upon entering the building.

Attendees who wish to attend the March 9-10, 2016 ICD-10-CM C&M meeting must submit their name and organization by March 1, 2016 for inclusion on the visitor list. This visitor list will be maintained at the front desk of the CMS building and used by the guards to admit visitors to the meeting.

Participants who attended previous Coordination and Maintenance meetings will no longer be automatically added to the visitor list. You must request inclusion of your name prior to each meeting you wish attend.

Please register to attend the meeting on-line at: http://www.cms.hhs.gov/apps/events/. Please contact Mady Hue (410-786-4510 or Marilu.hue@cms.hhs.gov), for questions about the registration process.

Purpose: The ICD-10 Coordination and Maintenance (C&M) Committee is a public forum for the presentation of proposed modifications to the International Classification of Diseases, Tenth Revision, Clinical Modification and ICD-10 Procedure Coding System.

Matters for Discussion: Agenda items include: March 9-10, 2016.

ICD-10-PCS Topics

Removal of Thrombus and Emboli

Insertion of Endobronchial Coils

Hematopoietic Cell Transplant Donor

Fluorescence Vascular Angiography (FVA) (FVA)

Rapid Deployment Aortic Valve Replacement Replacement

Branch Endograft Repair of Common Iliac Aneurysm

Total Anomalous Pulmonary Venous Return

Administration of Andexanet Alfa

Injection for I.V. Infusion

Administration of VISTOGARD (uridine triacetate)

Mechanical Embolectomy with Stent Retriever Retrieve

Intracranial Aneurysm Procedure Using Flow Diverter Stent

Spinal Bracing and Distraction System

Interbody Spinal Fusion with Nano-Textured Surface

Therapeutic Artificial Rupture of Membranes

Application of Biologic Wound Matrix (MircoDERM)

Oxidized Zirconium on Polyethylene Bearing Surfaces

GEM Structure and Update Requests

Addenda and Key Updates

ICD-10-CM Diagnosis Topics

Antenatal Screening

Clostridium difficile

Congential Sacral Dimple

Exercise Counseling

Hepatic Encephalopathy

Lacunar Infarction

Pediatric Cryptorchidism

Post-operative Seroma

Soft Tissue Sarcoma

Spinal Stenosis

Temporomandibular Joint Disorders

Zika Virus Infection

ICD-10-CM Addendum

Agenda items are subject to change as priorities dictate.

Note: CMS and NCHS no longer provide paper copies of handouts for the meeting. Electronic copies of all meeting materials will be posted on the CMS and NCHS Web sites prior to the meeting at http://www.cms.hhs.gov/ICD9ProviderDiagnosticCodes/03_meetings.asp#TopOfPage and http://www.cdc.gov/nchs/icd/icd9cm_maintenance.htm

Contact Persons for Additional Information: Donna Pickett, Medical Systems Administrator, Classifications and Public Health Data Standards Staff, NCHS, 3311 Toledo Road, Hyattsville, Maryland 20782, email dfp4@cdc.gov, telephone 301-458-4434 (diagnosis); Mady Hue, Health Insurance Specialist, Division of Acute Care, CMS, 7500 Security Boulevard, Baltimore, Maryland 21244, email marilu.hue@cms.hhs.gov, telephone 410-786-4510 (procedures).

The Director, Management Analysis and Services Office, has been delegated the authority to sign Federal Register notices pertaining to announcements of meetings and other committee management activities, for both the Centers for Disease Control and Prevention, and the Agency for Toxic Substances and Disease Registry.

Claudette Grant,
Acting Director, Management Analysis and Services Office, Centers for Disease Control and Prevention.

[FR Doc. 2016-03930 Filed 2-24-16; 8:45 am]

BILLING CODE 4163-18-P